Title 3—

The President

Executive Order 13600 of February 9, 2012

Establishing the President's Global Development Council

By the authority vested in me as President by the Constitution and the laws of the United States of America, it is hereby ordered as follows:

Section 1. Policy. To help protect national security and further American economic, humanitarian, and strategic interests in the world, it is the policy of the Federal Government to promote and elevate development as a core pillar of American power and chart a course for development, diplomacy, and defense to reinforce and complement one another. As stated in the 2010 National Security Strategy and the Presidential Policy Directive on Global Development, the successful pursuit of development is essential to advancing our national security objectives: security, prosperity, respect for universal values, and a just and sustainable international order. The effectiveness of this development policy will depend in large measure on how we engage with partners, beneficiaries of our development assistance, and stakeholders. We will use evidence-based decision-making in all areas of U.S. development policy and programs, and we commit to foster development expertise and learning worldwide.

Sec. 2. Establishment. There is established the President's Global Development Council (Council). The Council shall be established for administrative purposes within the United States Agency for International Development (USAID) subject to the foreign policy and budgetary guidance of the Secretary of State.

Sec. 3. Membership. The membership of the Council shall be as follows:

(a) The Council shall be composed of the officials described in paragraph (b) of this section and not more than 12 individuals from outside the Federal Government appointed by the President. Appointed members of the Council may serve as representatives of a variety of sectors, including, among others, institutions of higher education, non-profit and philanthropic organizations, civil society, and private industry.

(b) The Secretary of State, the Secretary of the Treasury, the Secretary of Defense, the USAID Administrator, and the Chief Executive Officer of the Millennium Challenge Corporation shall serve as non-voting members of the Council and may designate, to perform the Council functions of the member, a senior-level official who is part of the member's department, agency, or office, and who is a full-time officer or employee of the Federal Government.

(c) The President shall designate a member of the Council to serve as Chair and another member to serve as Vice Chair. The Chair shall convene and preside at meetings of the Council, determine meeting agendas, and direct its work. The Vice Chair shall perform the duties of the Chair in the absence of the Chair and shall perform such other functions as the Chair may assign.

(d) The term of office of members appointed by the President from outside the Federal Government shall be 2 years, and such members shall be eligible for reappointment and may continue to serve after the expiration of their terms until the President appoints a successor. A member appointed to fill a vacancy shall serve only for the unexpired term of such vacancy.

Sec. 4. Mission and Functions. The Council shall advise and support the President, through the National Security Staff and the National Economic Council staff, in furtherance of the policy set forth in section 1 of this order. The Council shall meet regularly and shall:

(a) inform the policy and practice of U.S. global development policy and programs by providing advice to the President and other senior officials on issues including:

(i) innovative, scalable approaches to development with proven demonstrable impact, particularly on sustainable economic growth and good governance;

(ii) areas for enhanced collaboration between the Federal Government and public and private sectors to advance development policy;

(iii) best practices for and effectiveness of research and development in low and middle income economies; and

(iv) long-term solutions to issues central to strategic planning for U.S. development efforts;

(b) support new and existing public-private partnerships by:

(i) identifying key areas for enhanced collaboration and any barriers to collaboration; and

(ii) recommending concrete efforts that the private and public sectors together can take to promote economic development priorities and initiatives; and

(c) increase awareness and action in support of development by soliciting public input on current and emerging issues in the field of global development as well as bringing to the President's attention concerns and ideas that would inform policy options.

Sec. 5. Administration of the Council. (a) The heads of executive departments and agencies shall assist and provide information to the Council, consistent with applicable law, as may be necessary to carry out the functions of the Council.

(b) Funding and administrative support for the Council shall be provided by USAID to the extent permitted by law and within existing appropriations.

(c) The USAID Administrator shall appoint an Executive Director who shall be a Federal officer or employee of USAID and serve as a liaison to the Administrator and the Executive Office of the President and consult with relevant executive departments, agencies, and offices on matters and activities pertaining to the Council.

(d) The members of the Council who are appointed from outside the Federal Government shall serve without compensation for their work on the Council. Members of the Council may, however, receive travel expenses, including per diem in lieu of subsistence, as authorized by law for persons serving intermittently in the Government service (5 U.S.C. 5701-5707).

(e) Insofar as the Federal Advisory Committee Act (FACA), as amended (5 U.S.C. App.), may apply to the Council, any functions of the President under FACA, except that of reporting to the Congress, shall be performed by the USAID Administrator in accordance with the guidelines issued by the Administrator of General Services.

Sec. 6. Termination. The Council shall terminate 2 years after the date of this order, unless renewed by the President.

Sec. 7. General Provisions. (a) Nothing in this order shall be construed to impair or otherwise affect:

(i) authority granted by law to a department or agency, or the head thereof; or

(ii) functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

February 9, 2012.

[FR Doc. 2012-3616

Filed 2-13-12; 11:15 am]

Billing code 3295-F2-P